DEPARTMENT OF STATE

[Public Notice Number 3265]

International Telecommunication Advisory Committee; Notice of Charter Renewal

The Department of State announces that it has renewed the charter of the International Telecommunication Advisory Committee (ITAC), a committee under the Federal Advisory Committee Act (FACA), Public Law 92-463. The purpose of the ITAC is to advise the Department of State and provide strategic planning recommendations on telecommunications and information policy matters related to United States participation in the work of international telecommunication treaty organizations. The ITAC is composed of three Sectors—Radiocommunication, Telecommunication Development, and Telecommunication Standardization.

Members of the general public may attend ITAC meetings. Entrance to the Department of State is controlled; people intending to attend any of the ITAC meetings should notify the Department by fax at (202) 647-7407 not later than 24 hours before the meeting. One of the following valid photo identifications will be required for admission: U.S. driver's license, passport, U.S. Government identification card. Enter from the C Street Lobby; in view of escorting requirements, non-Government attendees should plan to arrive not less than 15 minutes before the meeting begins. Actual room assignments may be determined at the lobby or by calling the Secretariat at 202 647-0965/2592.

Attendees may join in the discussions, subject to the instructions of the Chair. Admission of members will be limited to seating available.

Dated: April 12, 2000.
Julian Minard,
Executive Secretary, Multilateral Trade Affairs, U.S. Department of State.

[FR Doc. 00-9799 Filed 4-18-00; 8:45 am]

BILLING CODE 4710-45-P